NUCLEAR REGULATORY COMMISSION

Advisory Committee on Reactor Safeguards Joint Meeting of the ACRS Subcommittees on Reliability and Probabilistic Risk Assessment and on Plant Operations; Notice of Meeting

The ACRS Subcommittees on Reliability and Probabilistic Risk Assessment (PRA) and on Plant Operations will hold a joint meeting on June 15, 2005, Room T-2B1, 11545 Rockville Pike, Rockville, Maryland.

The entire meeting will be open to public attendance.

The agenda for the subject meeting shall be as follows:

Wednesday, June 15, 2005—8:30 a.m. Until 12:30 p.m.

The purpose of this meeting is to discuss the status of the development of risk management technical specifications. The Subcommittees will hear the status of the Risk Management Technical Specifications Initiative 4b, which proposes to rely on PRA and risk monitors to calculate technical specification completion times for returning structures, systems, and components to operable status.

The Subcommittees will hear presentations by and hold discussions with representatives of the NRC staff, Nuclear Energy Institute, South Texas Project Nuclear Operating Company, Southern California Edison, and Electric Power Research Institute regarding this matter. The Subcommittees will gather information, analyze relevant issues and facts, and formulate proposed positions and actions, as appropriate, for deliberation by the full Committee.

Members of the public desiring to provide oral statements and/or written comments should notify the Designated Federal Official, Mr. Michael R. Snodderly (telephone: 301-415-6927) or the Cognizant Staff Engineer, Mr. John G. Lamb (telephone: 301-415-6855), five days prior to the meeting, if possible, so that appropriate arrangements can be made. Electronic recordings will be permitted.

Further information regarding this meeting can be obtained by contacting the Designated Federal Official or the Cognizant Staff Engineer between 7:30 a.m. and 4:15 p.m. (ET). Persons planning to attend this meeting are urged to contact one of the above named individuals at least two working days prior to the meeting to be advised of any potential changes to the agenda.

Dated: May 24, 2005.
Michael L. Scott,
Branch Chief, ACRS/ACNW.

[FR Doc. E5-2764 Filed 5-31-05; 8:45 am]

BILLING CODE 7590-01-P